SECURITIES AND EXCHANGE COMMISSION

[Release No. 34-82342]

Notice of Intention To Cancel Registrations of Certain Transfer Agents

December 18, 2017.

Notice is hereby given that the Securities and Exchange Commission (“Commission”) intends to issue an order, pursuant to Section 17A(c)(4)(B) of the Securities Exchange Act of 1934 (“Act”),¹ cancelling the registrations of the transfer agents whose names appear in the attached Appendix.

¹ 15 U.S.C. 78q-1(c)(4)(B).

FOR FURTHER INFORMATION CONTACT: Christian Sabella, Associate Director, or Catherine Whiting, Senior Counsel, at (202) 551-4990, U.S. Securities and Exchange Commission, Division of Trading and Markets, 100 F Street NE, Washington, DC 20549-7010 or by email at tradingandmarkets@sec.gov with the phrase “Notice of Intention to Cancel Transfer Agent Registration” in the subject line.

Background

Section 17A(c)(4)(B) of the Act provides that if the Commission finds that any transfer agent registered with the Commission is no longer in existence or has ceased to do business as a transfer agent, the Commission shall by order cancel that transfer agent's registration.

Although the Commission has made efforts to locate and to determine the status of each of the transfer agents listed in the Appendix, based on the facts it has, the Commission believes that each of those transfer agents is no longer in existence or has ceased doing business as a transfer agent. Accordingly, at any time after January 31, 2018, the Commission intends to issue an order cancelling the registrations of the transfer agents listed in the Appendix.

The representative of any transfer agent listed in the Appendix who believes the registration of the transfer agent should not be cancelled must notify the Commission in writing or by email prior to January 31, 2018. Written notifications may be mailed to Office of Clearance and Settlement, Division of Trading and Markets, U.S. Securities and Exchange Commission, 100 F Street NE, Washington, DC 20459-7010. Email notifications may be sent to tradingandmarkets@sec.gov with the phrase “Notice of Intention to Cancel Transfer Agent Registration” in the subject line.

² 17 CFR 200.30-3(a)(22).

For the Commission by the Division of Trading and Markets, pursuant to delegated authority.²
Brent J. Fields,
Secretary.

APPENDIX

TA name | File number
AG Transfer Agency LLC | 084-06306
Allied Stock Transfer, Inc | 084-06171
AlphaMetrix, LLC | 084-06327
Baron Capital Transfer & Registrar LLC | 084-06440
Bluechip Equity Inc. DBA Bluechip Trust Company | 084-06173
Cascade Stock Transfer, Inc | 084-06204
Cascade Stock Transfer, Inc | 084-06204
Centerline Affordable Housing Advisors LLC | 084-01911
Chris Lotito | 084-06197
Clayton Securities Services, Inc | 084-05425
Demiurgic, Inc | 084-06274
Elite Transfer Corp | 084-06193
EnDevCo, Inc | 084-06084
First National Bank of Omaha | 084-06174
First National Bank of Sioux Falls | 084-06228
Fund Dynamics, LLC | 084-06208
Hiko Bell Mining & Oil Company | 084-05445
Holladay Stock Transfer, Inc | 084-01822
Integrity Stock Transfer | 084-06113
Intercontinental Registrar & Transfer Agency, Inc | 084-01123
Investor Data Services | 084-01425
Johnson, Lawrence & Associates | 084-05831
Karrison Compagnie Inc | 084-06046
Life Sciences Research | 084-06094
LM Anderson Securities, LLC | 084-06257
Matrix Capital Group Inc | 084-06122
Premier Stock Transfer, LLC | 084-06518
Progressive Transfer, Inc | 084-06268
Quads Trust Company | 084-05621
Repository & Related Services, LLC | 084-06500
Securities Registrar & Transfer Corp | 084-00582
Signal Stock Transfer, Inc | 084-06360
Standard Transfer & Trust Co., Inc | 084-05819
Superior Stock Transfer, Inc | 084-06121
Thermal Energy Storage Inc | 084-01300
U.S. Stock Transfer Corp | 084-06293
U.S. Trust & Transfer Co | 084-05663
Valley Forge Management Corp | 084-00012
Wall Street Stock Transfer Corporation | 084-06246

[FR Doc. 2017-27566 Filed 12-21-17; 8:45 am]

BILLING CODE 8011-01-P